DEPARTMENT OF COMMERCE

International Trade Administration

Export Trade Certificate of Review

ACTION: Notice of issuance of an amended Export Trade Certificate of Review, application no. 88-9A016.

SUMMARY: On August 8, 2005, The U.S. Department of Commerce issued an amended Export Trade Certificate of Review to Wood Machinery Manufacturers of America (“WMMA”).

FOR FURTHER INFORMATION CONTACT: Jeffrey C. Anspacher, Director, Export Trading Company Affairs, International Trade Administration, (202) 482-5131 (this is not a toll-free number) or E-mail at oetca@ita.doc.gov.

SUPPLEMENTARY INFORMATION: Title III of the Export Trading Company Act of 1982 (15 U.S.C. Sections 4001-21) authorizes the Secretary of Commerce to issue Export Trade Certificates of Review. The regulations implementing Title III are found at 15 CFR part 325 (2003).

Export Trading Company Affairs (“ETCA”) is issuing this notice pursuant to 15 CFR 325.6(b), which requires the U.S. Department of Commerce to publish a summary of the certification in the Federal Register. Under Section 305(a) of the Act and 15 CFR 325.11(a), any person aggrieved by the Secretary's determination may, within 30 days of the date of this notice, bring an action in any appropriate district court of the United States to set aside the determination on the ground that the determination is erroneous.

Description of Amended Certificate

Export Trade Certificate of Review No. 88-00016, was issued to WMMA on February 3, 1989 (54 FR 6312, February 9, 1989) and previously amended on June 22, 1990 (55 FR 27292, July 2, 1990); August 20, 1991 (56 FR 42596, August 28, 1991); December 13, 1993 (58 FR 66344, December 20, 1993); August 23, 1994 (59 FR 44408, August 29, 1994); September 20, 1996 (61 FR 50471, September 26, 1996); June 20, 1997 (62 FR 34440, June 26, 1997); and June 8, 1998 (63 FR 35567, June 30, 1998).

WMMA's Export Trade Certificate of Review has been Amended to:

1. Add each of the following companies as a new “Member” of the Certificate within the meaning of section 325.2(1) of the Regulations (15 CFR 325.2(1)): Wood-Mizer Products, Inc., Indianapolis, Indiana; and The Original Saw Co., Britt, Iowa;

2. Delete the following companies as “Members” of the Certificate: CEMCO, Inc.,Whitesburg, Tennessee; Delta International Machinery Corporation, Pittsburgh, Pennsylvania; Industrial Woodworking Machine Company, Garland, Texas; Jenkins Division, Kohler General Corporation, Sheboygan Falls, Wisconsin; Machine Systems L.L.C., Bend, Oregon; Midwest Automation, Inc., Minneapolis, Minnesota; Onsrud Machine Corporation, Wheeling, Illinois; A.G. Raymond & Company, Inc., Raleigh, North Carolina; Powermatic, McMinnville, Tennessee; Ritter Manufacturing, Inc., Antioch, California; Terrco, Inc., Waterloo, South Dakota; Timesavers, Inc., Minneapolis, Minnesota; Viking Engineering and Development, Inc., Fridley, Minnesota; Wisconsin Knife Works, Beloit, Wisconsin; Yates-American Machine Co., Beloit, Wisconsin; North American Products Corporation, Jasper, Indiana; and Alexander Dodds Company, Grand Rapids, Michigan; and

3. Change the listing of the following Members: “Unique Machine & Tool Co., Tempe, Arizona” to the new listing “Unique Machine & Tool Co., Phoenix, Arizona”; “Carter Products, Inc., Grand Rapids, Michigan” to the new listing “Carter Products Co., Inc., Grand Rapids, Michigan”; “Safranek Ent., Inc., Atascadero, California” to the new listing “Safranek Enterprises, Inc., Atascadero, California”; and “Tyler Machinery Company, Inc., Warsaw, Indiana” to the new listing “Warsaw Machinery, Inc., Warsaw, Indiana.”

The effective date of the amended certificate is May 9, 2005. A copy of the amended certificate will be kept in the International Trade Administration's Freedom of Information Records Inspection Facility, Room 4100, U.S. Department of Commerce, 14th Street and Constitution Avenue, NW., Washington, DC 20230.

Dated: August 8, 2005.
Jeffrey C. Anspacher,
Director, Export Trading Company Affairs.

[FR Doc. E5-4385 Filed 8-11-05; 8:45 am]

BILLING CODE 3510-DR-P